DEPARTMENT OF ENERGY

Federal Energy Regulatory Commission

Applications, Hearings, Determinations, etc.; Notice

Regional Transmission Organizations

[Docket Nos. RT01-99-000, RT01-99-001, RT01-99-002 and RT01-99-003]

Bangor Hydro-Electric Company, et al.

[Docket Nos. RT01-86-000, RT01-86-001 and RT01-86-002]

New York Independent System Operator, Inc., et al.

[Docket Nos. RT01-95-000, RT01-95-001 and RT01-95-002]

PJM Interconnection, L.L.C., et al.

[Docket Nos. RT01-2-000, RT01-2-001, RT01-2-002 and RT01-2-003]

PJM Interconnection, L.L.C.

[Docket No. RT01-98-000]

ISO New England, Inc., New York Independent System Operator, Inc.

[Docket No. RT02-3-000]

October 11, 2002.

Take notice that PJM Interconnection, L.L.C., New York Independent System Operator, Inc. and ISO New England, Inc. have posted on their internet Web sites charts updating their progress on the resolution ISO seams.

Any person desiring to file comments on this information should file with the Federal Energy Regulatory Commission, 888 First Street, NE., Washington, DC 20426, in accordance with Rules 211 and 214 of the Commission's Rules of Practice and Procedure (18 CFR 385.211 and 385.214). All such comments should be filed on or before the comment date. Comments may be filed electronically via the Internet in lieu of paper; see 18 CFR 385.2001(a)(1)(iii) and the instructions on the Commission's Web site under the “e-Filing” link. The Commission strongly encourages electronic filings.

Comment Date: October 31, 2002.

Magalie R. Salas,
Secretary.

[FR Doc. 02-26563 Filed 10-17-02; 8:45 am]

BILLING CODE 6717-01-P